DEPARTMENT OF LABOR

Employment and Training Administration

[TA-W-82,302]

Wausau Paper, Brainerd Converting Operation, Including On-Site Leased Workers From Employment Resource Center, Securitas and Marsden, Brainerd, Minnesota; Amended Certification Regarding Eligibility To Apply for Worker Adjustment Assistance

In accordance with Section 223 of the Trade Act of 1974, as amended (“Act”), 19 U.S.C. 2273, the Department of Labor issued a Certification of Eligibility to Apply for Worker Adjustment Assistance on February 7, 2013, applicable to workers of Wausau Paper, Brainerd Converting Operation, including on-site leased workers from Employment Resource Center, Brainerd, Minnesota. The Department's notice of determination was published in the Federal Register on February 22, 2013 (Volume 78 FR Pages 12361-12363).

At the request of the State Workforce Office, the Department reviewed the certification for workers of the subject firm. The workers were engaged in production of uncoated free sheet paper. The state reports that workers leased from Securitas and Marsden were employed on-site at the Brainerd, Minnesota location of Wausau Paper, Brainerd Converting Operation. The Department has determined that these workers were sufficiently under the control of the subject firm to be considered leased workers.

Based on these findings, the Department is amending this certification to include workers leased from Securitas and Marsden working on-site at the Brainerd, Minnesota location of Wausau Paper, Brainerd Converting Operation.

The amended notice applicable to TA-W-82,302 is hereby issued as follows:

“All workers of Wausau Paper, Brainerd Converting Operation, including on-site leased workers from Employment Resource Center, Securitas and Marsden, Brainerd, Minnesota, who became totally or partially separated from employment on or after December 27, 2011, through February 7, 2015, and all workers in the group threatened with total or partial separation from employment on the date of certification through February 7, 2015, are eligible to apply for adjustment assistance under Chapter 2 of Title II of the Trade Act of 1974, as amended.”

Signed in Washington, DC this 5th day of July, 2013.
Michael W. Jaffe,
Certifying Officer, Office of Trade Adjustment Assistance.

[FR Doc. 2013-19184 Filed 8-7-13; 8:45 am]

BILLING CODE 4510-FN-P